DEPARTMENT OF DEFENSE

Defense Acquisition Regulations System

[Docket Number DARS-2014-0033]

Submission for OMB Review; Comment Request

AGENCY: Defense Acquisition Regulations System, DoD.

ACTION: Notice.

SUMMARY: The Defense Acquisition Regulations System has submitted to OMB for clearance, the following proposal for collection of information under the provisions of the Paperwork Reduction Act (44 U.S.C. chapter 35).

DATES: Consideration will be given to all comments received by September 19, 2014.

SUPPLEMENTARY INFORMATION:

Title, Associated Form, and OMB Number: Defense Federal Acquisition Regulation Supplement (DFARS), Evaluation Factor for Use of Members of the Armed Forces Selected Reserve; OMB Control Number 0704-0446.

Type of Request: Reinstatement.

Number of Respondents: 100.

Responses per Respondent: 1.

Annual Responses: 100.

Average Burden per Response: Approximately 1 hour.

Annual Burden Hours: 100.

Needs and Uses: In accordance with section 819 of the National Defense Authorization Act for Fiscal Year 2006 (Pub. L. 109-163), the contracting officer may use an evaluation factor that considers whether an offeror intends to perform the contract using employees or individual subcontractors who are members of the Selected Reserve. When such an evaluation factor is used, the contracting officer includes the provision at DFARS 252.215-7005, Evaluation Factor for Employing or Subcontracting with Members of the Selected Reserve, to require offerors to provide documentation to support any proposal to use employees or individual subcontractors who are members of the Selected Reserve in performance of any resultant contract. This information is required to enable the contracting officer to properly evaluate the offer against the evaluation criteria.

Affected Public: Businesses or other for-profit entities and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Ms. Patricia Toppings.

Written requests for copies of the information collection proposal should be sent to Ms. Toppings at WHS/ESD/Information Management Division, 4800 Mark Center Drive, 2nd Floor, East Tower, Suite 02G09, Alexandria, VA 22350-3100.

Manuel Quinones,
Editor, Defense Acquisition Regulations System.

[FR Doc. 2014-19728 Filed 8-19-14; 8:45 am]

BILLING CODE 5001-06-P